ENVIRONMENTAL PROTECTION AGENCY

[EPA-HQ-OPP-2009-1017; FRL-9923-27]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations has been cancelled only if such sale, distribution, or use is consistent with the terms as described in the final order.

DATES: Comments must be received on or before April 13, 2015.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: Janeese Hackley.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Janeese Hackley, Pesticide Re-Evaluation Division (7508P), Office of Pesticide Programs, Environmental Protection Agency, 1200 Pennsylvania Ave. NW., Washington, DC 20460-0001; telephone number: (703) 605-1523; email address: hackley.janeese@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 47 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Product name | Chemical name
000279-09556 | Intruder Residual Cylinder with Cyfluthrin | Piperonyl butoxide, Pyrethrins, and Cyfluthrin.
000769-00881 | Pratt 25-5 ULV Mosquito Adulticide Concentrate | Pyrethrins and Piperonyl butoxide.
002693-00214 | Micron Extra P-Blue | Tolylfluanid and Cuprous oxide.
002693-00215 | Ultra P-Blue | Cuprous oxide and Tolylfluanid.
002724-00779 | Permethrin Plus Home and Carpet Spray | Permethrin, MGK 264, and Pyriproxyfen.
004787-00043 | Malathion Technical | Malathion.
004787-00046 | Atrapa 8E | Malathion.
005382-00046 | Chlorite Plus CD-2 | Sodium chlorite.
005481-00350 | Metam Sodium | Metam sodium.
005481-00418 | Metam Sodium Soil Fumigant For All Crops | Metam sodium.
005481-00420 | AMVAC Metam | Metam sodium.
005481-00446 | Metacide 42 | Metam sodium.
007969-00081 | Pyramin DF Herbicide | Pyrazon.
007969-00108 | Pyramin Super Herbicide | Pyrazon.
010088-00097 | Insect Repellent Towel | MGK-264, MGK 326, and Diethyl toluamide.
010163-00174 | Fireban Fire Ant Insecticide | Phosmet.
010163-00224 | Ambush 0.5% Bait | Permethrin.
011603-00045 | Nitrapyrin Technical | Nitrapyrin.
021164-00003 | DURA KLOR | Sodium chlorite.
021164-00005 | AKTA KLOR 80 | Sodium chlorite.
035559-00002 | Diesel STA-BIL | 1,3,2-Dioxaborinane, 2,2′-((1-methyl-1,3-propanediyl) bis(oxy))bis(4-methyl- and 1,3,2-Dioxaborinane, 2,2′-oxybis(4,4,6-trimethyl-.
042750-00259 | Glufosinate-Ammonium TGAI | Glufosinate-Ammonium.
047158-00002 | Synergy 201 | Poly(oxy-1,2-ethanediyl(dimethylimino)-1,2-ethanediyl (dimethylimino)-1,2-ethanediyl dichloride).
059639-00028 | Orthene Tree and Ornamental Spray | Acephate.
059639-00086 | Orthene 90 WSP | Acephate.
059639-00089 | Orthene 75 WSP (Insecticide in a Water Soluble Bag) | Acephate.
062190-00028 | Chemonite Part B | Cuprous oxide.
065217-00001 | Biobor JF | 1,3,2-Dioxaborinane, 2,2′-((1-methyl-1,3-propanediyl)bis(oxy))bis(4-methyl- and 1,3,2-Dioxaborinane, 2,2′oxybis(4,4,6-trimethyl-.
066222-00108 | Bromoxynil and Atrazine Herbicide | Atrazine and Bromoxynil octanoate.
066222-00119 | Bromoxynil 2EC Herbicide | Bromoxynil octanoate.
066222-00120 | Bromoxynil and MCPA Herbicide | MCPA, 2-ethylhexyl ester and Bromoxynil octanoate.
069361-00029 | Pendim Weed and Feed | Pendimethalin.
069361-00030 | Pendimethalin Technical | Pendimethalin.
069361-00031 | Pendim 3.3 EC Herbicide | Pendimethalin.
069361-00032 | Pendim H2O Herbicide | Pendimethalin.
069461-00002 | Revablue | Poly(oxy-1,2 ethanediyl(dimethylimino)-1,2-ethanediyl(dimethylimino)-1,2-ethanediyl dichloride).
071368-00070 | Bromoxynil Technical | Bromoxynil.
071368-00071 | Bromox Octanoic Acid Technical | Bromoxynil octanoate.
071995-00003 | Kleeraway Grass & Weed Killer 2 | Sodium acifluorfen and Glyphosate-isopropylammonium.
073801-00001 | Deltamethrin Technical | Deltamethrin.
073801-00003 | Sulfentrazone Technical | Sulfentrazone.
073801-00004 | Deltamethrin 4.75% SC | Deltamethrin.
089118-00001 | VCP-01 10WG | Bifenthrin.
CA-090010 | Ethrel Brand Ethephon Plant Regulator | Ethephon.
HI-840004 | AMCHEM Ethrel Pineapple Growth Regulator | Ethephon.
MA-090002 | B-CAP 35 Antimicrobial Agent | Hydrogen peroxide.
PA-080004 | B-CAP 50 Antimicrobial Agent | Hydrogen peroxide.

Table 2 of this unit includes the names and addresses of record for all registrants of the products in Table 1 of this unit, in sequence by EPA company number. This number corresponds to the first part of the EPA registration numbers of the products listed in this unit.

Table 2—Registrants Requesting Voluntary Cancellation
EPA company No. | Company name and address
279 | FMC Corp. Agricultural Products Group, 1735 Market Street, RM 1978, Philadelphia, PA 19103.
769 | Value Gardens Supply, LLC, Agent: AllPro Vector Group, 640 Griswold Street, Suite 200, Northville, MI 48167.
2693 | AkzoNobel, Agent: International Paint, LLC, 2270 Morris Ave. Union, NJ 07083.
2724 | Wellmark International, 1501 E. Woodfield Road, Suite 200 West, Schaumburg, IL 60173.
4787 | Cheminova A/S, Agent: Cheminova, Inc., 1600 Wilson Blvd., Suite 700, Arlington, VA 22209.
5382, 21164 | Basic Chemicals Company, LLC, 5005 LBJ Freeway, Dallas, TX 75244.
5481 | AMVAC Chemical Corporation, 4695 MacArthur Court, Suite 1200, Newport Beach, CA 926601706.
7969 | BASF Corporation, 26 Davis Drive, P.O. Box 13528, Research Triangle Park, NC 27709-3528.
10088 | Athea Laboratories, Inc., P.O. Box 240014, Milwaukee, WI 53224.
10163 | Gowan Company, P.O. Box 5569, Yuma, AZ 85366.
11603 | ADAMA, Agent: MANA, Inc., 3120 Highwoods Blvd, Suite 100, Raleigh, NC 27604.
35559 | Gold Eagle Co., Agent: Delta Analytical Corp., 12510 Prosperity Drive, Suite 160, Silver Spring, MD 20904.
42750 | Albaugh, LLC, P.O. Box 2127, Valdosta, GA 31604-2127.
47158 | Industrial Water Consulting, Inc., P.O. Box 36238, Indianapolis, IN 46236.
59639 | Valent U.S.A. Corporation, 1600 Riviera Avenue, Suite 200, Walnut Creek, CA 94596.
62190 | Arch Wood Protection, Inc., 360 Interstate North Parkway, Suite 450, Atlanta, GA 30339.
65217 | Hammonds Fuel Additives, Inc., Agent: Delta Analytical Corp., 12510 Prosperity Drive, Suite 160, Silver Spring, MD 20904.
66222 | Makhteshim Agan of North America, Inc., 3120 Highwoods Blvd., Suite 100, Raleigh, NC 27604.
69361 | Repar Corporation, Agent: Mandava Associates, LLC, 1050 Conn. Ave. NW., Suite 1000, Washington, DC 20036.
69461 | Laboratoire Pareva, Agent: Technology Sciences Group, Inc., 1150 18th Street NW., Suite 1000, Washington, DC 20036.
71368 | Nufarm, Inc., Agent: Nufarm Americans, Inc., 4020 Aerial Center Parkway, Suite 101, Morrisville, NC 27560.
71995 | Monsanto Company, 1300 I Street NW., Suite 450 East, Washington, DC 20005.
73801 | Tagos Chemicals India, LTD, Agent: Biologic, Inc., 115 Obtuse Hill Road, Brookfield, CT 06804.
89118 | Vive CorpProtection, Inc., Agent: OMC Ag Consulting, 828 Tanglewood Ln., East Lansing, MI 48823.
CA-090010, HI-840004 | Bayer CropScience, LP, 2 T.W. Alexander Drive, P.O. Box 12014, Research Triangle Park, NC 27709.
MA-090002, PA-080004 | PeroxyChem, LLC, 2005 Market Street, Suite 3200, Philadelphia, PA 19103.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

A. For Products (069361-00030, 073801-00003, and 089118-00001)

The registrants have indicated to the Agency via written response that there are no existing stocks because no production has ever occurred. Therefore, no existing stocks date is necessary. Registrants will be prohibited from selling or distributing the pesticides identified in Table 1 of Unit II. upon cancellation of the product, except for export consistent with FIFRA section 17 (7 U.S.C. 136o) or for proper disposal. In addition, because no production has ever occurred, EPA believes that persons other than the registrant will have no existing stocks to sell, distribute, or legally use.

B. For the Product (010163-00174)

The registrant has indicated to the Agency via written response that they will not sell or distribute any existing stocks, after December 31, 2014, and as of that date will no longer have any current stock. Therefore, no existing stocks date is necessary. Registrants will be prohibited from selling or distributing the pesticides identified in Table 1 of Unit II. upon cancellation of the product, except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled product.

C. For All Other Products Identified in Table 1 of Unit II.

Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: February 27, 2015.
Richard P. Keigwin, Jr.,
Director, Pesticide Re-Evaluation Division, Office of Pesticide Programs.

[FR Doc. 2015-05640 Filed 3-11-15; 8:45 am]

BILLING CODE 6560-50-P